Proclamation 7604 of October 4, 2002

German-American Day, 2002

By the President of the United States of America

A Proclamation

As the oldest and longest-lived democracy in the world, our Nation is committed to promoting freedom, protecting liberty, and pursuing peace. For over 225 years, America has been a place where people have come to realize their dreams and enjoy the blessings of religious tolerance and individual rights.

In 1683, 13 immigrant families left Germany to escape religious persecution and establish the first German settlement in North America in Germantown, Pennsylvania. Since that time, more than 7 million German immigrants have come to America, and through hard work, innovation, and dedication, they have influenced our Nation and strengthened our country. Each year, we celebrate German-American Day, which offers us the chance to reflect on the proud and important contributions that German Americans have made to the United States.

Carl Schurz, who emigrated from the Rhineland, served as a United States Senator and Secretary of the Interior. He said that German immigrants “could render no greater honor to their former fatherland than by becoming conscientious and faithful citizens of their new country.” As farmers, businessmen, scientists, artists, teachers, and politicians, German Americans have contributed to the values that make our Nation strong. Through his artistic abilities as a cartoonist and caricaturist during and following the Civil War, Thomas Nast established himself as a political voice for the underprivileged and champion of equal rights for all citizens.

The important work of Joseph Pulitzer helped to create the American legacy of freedom of the press and to advance the field of journalism. Oscar Hammerstein is known as an integral figure in the history of the United States opera for building his second Manhattan Opera House in addition to several other theaters. This tradition of excellence continued with the musical talents of his grandson, Oscar Hammerstein II, as he elevated the American musical comedy to musical theater that Americans enjoy today. The efforts of German-American entrepreneurs Levi Strauss, the creator of blue jeans, and Walter Percy Chrysler, the first president of Chrysler Corporation in 1925, reflect the entrepreneurial spirit of our country. Today, German Americans continue to serve this Nation with distinction in our Armed Forces, in our communities, and throughout all sectors of our society.

On this day, we recognize the important and continuing relationship between Germany and the United States. Our friendship was forged after World War II and is based on mutual support and respect. Germany showed meaningful support for the United States after the September 11, 2001, terrorist attacks. On this day, I am pleased to call all Americans to celebrate the contributions that German Americans have made to our Nation.

NOW, THEREFORE, I, GEORGE W. BUSH, President of the United States of America, by virtue of the authority vested in me by the Constitution and laws of the United States, do hereby proclaim October 6, 2002, as German-American Day. I encourage all Americans to recognize the contributions of our citizens of German descent to the liberty and prosperity of the United States, and to celebrate our close ties to the people of Germany.

IN WITNESS WHEREOF, I have hereunto set my hand this fourth day of October, in the year of our Lord two thousand two, and of the Independence of the United States of America the two hundred and twenty-seventh.

B

[FR Doc. 02-25899

Filed 10-8-02; 8:45 am]

Billing code 3195-01-P